DEPARTMENT OF THE INTERIOR

National Park Service

National Register of Historic Places; Notification of Pending Nominations

Nominations for the following properties being considered for listing in the National Register were received by the National Park Service before October 10, 2004.

Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by November 22, 2004.

Carol D. Shull,
Keeper of the National Register of Historic Places.

DISTRICT OF COLUMBIA

District of Columbia

Convent de Bon Secours, 4101 Yuma St. NW., Washington, 04001237.

Friendship Baptist Church, 734 First St. SW., Washington, 04001236.

GEORGIA

Brooks County

Bethlehem Primitive Baptist Church and Cemetery, Cty Rd. 125, Quitman, 04001239.

Dodge County

Peabody School, Herman Ave., Eastman, 04001238.

GUAM

Guam County

Talagi Pictograph Cave, Address Restricted, Andersen Air Force Base, 04001240.

MISSISSIPPI

Alcorn County

Corinth Clothing Manufacturing Company Building, Tate St. at Davis St., Corinth, 04001241.

MISSOURI

St. Louis County

Patterson, Elisha and Lucy, Farmstead Historic District, 15505 New Halls Ferry Rd., Florissant, 04001242.

PUERTO RICO

San Juan Municipality

Edificio del Valle, 1118 Ponce de Leon Ave., San Juan, 04001243.

VIRGINIA

Albemarle County

McCormick, Leander, Observatory, 600 McCormick Rd., Charlottesville, 04001245.

Amherst County

Tusculum, 2077 N. Amherst Hwy. (US 29), Amherst, 04001244

A request for removal has been made for the following resource:

SOUTH DAKOTA

Yankton County

Steingrube Place, (Northern and Central Townships of Yanktown MRA), 30089 452nd Ave., Wakonda, 03001539.

[FR Doc. 04-24778 Filed 11-4-04; 8:45 am]

BILLING CODE 4310-70-P